DEPARTMENT OF AGRICULTURE

Submission for OMB Review; Comment Request; Correction

January 30, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Federal and Non-Federal Financial Assistance Instruments.

Action: Notice; Correction.

OMB Control Number: 0596-0217.

Summary: The Department of Agriculture published a document in the Federal Register of January 23, 2014, concerning a request for comments on the Information collection “Federal and Non-Federal Financial Assistance Instruments” OMB control number 0596-0217. Under the heading “Need and Use of the Information” the incorrect statement “In addition, mandatory post-award meetings must be held for each new Federal financial assistance award” is corrected to read: “FS will utilize a new financial capabilities checklist or questionnaire to assist and to monitor recipients of Federal financial assistance by outlining both the financial and the internal policies necessary to accept and spend Federal dollars.”

Charlene Parker,
Departmental Information Collection Clearance Officer.

[FR Doc. 2014-02344 Filed 2-4-14; 8:45 am]

BILLING CODE 3411-15-P